DEPARTMENT OF JUSTICE

Antitrust Division

Notice Pursuant to the National Cooperative Research and Production Act of 1993—The Information Technology Industry Council, Inc./The InterNational Committee for Information Technology Standards

Notice is hereby given that, on September 21, 2004, pursuant to section 6(a) of the National Cooperative Research and Production Act of 1993, 15 U.S.C. 4301 et seq. (“the Act”), The Information Technology Industry Council, Inc./The InterNational Committee for Information Technology Standards (“ITI/INCITS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Information Technology Industry Council, Inc./The InterNational Committee for Information Technology Standards, Washington, DC. The nature and scope of ITI/INCITS' standards development activities are: development of standards in the field of Information and Communications Technologies (ICT), encompassing storage, processing, transfer, display, management, organization, and retrieval of information.

Dorothy B. Fountain,
Deputy Director of Operations, Antitrust Division.

[FR Doc. 04-27545 Filed 12-15-04; 8:45 am]

BILLING CODE 4410-11-M